DEPARTMENT OF TRANSPORTATION

Federal Railroad Administration

[Docket No. FRA-2020-0027-N-35]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before February 8, 2021.

ADDRESSES: Submit written comments and recommendations for the proposed ICR to Ms. Kim Toone, Information Collection Clearance Officer, Office of Information Technology, at Kim.Toone@dot.gov. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Metrics and Minimum Standards for Intercity Passenger Rail Service.

OMB Control Number: 2130-0623.

Abstract: On October 16, 2008, President George W. Bush signed the Passenger Rail Investment and Improvement Act of 2008, Public Law 110-432, 122 Stat. 4907 (PRIIA) into law. Section 207 of PRIIA requires FRA and Amtrak jointly to develop new or improved metrics and minimum standards for measuring the performance and service quality of intercity passenger train operations, including cost recovery, on-time performance and minutes of delay, ridership, on-board services, stations, facilities, equipment, and other services.

Section 207 also calls for consultation with the Surface Transportation Board, rail carriers over whose rail lines Amtrak trains operate, States, Amtrak employees, and groups representing Amtrak passengers, as appropriate.

Section 207 further provides that the metrics, at a minimum, must include: The percentage of avoidable and fully allocated operating costs covered by passenger revenues on each route; ridership per train mile operated; measures of on-time performance and delays incurred by intercity passenger trains on the rail lines of each rail carrier; and, for long-distance routes, measures of connectivity with other routes in all regions currently receiving Amtrak service and the transportation needs of communities and populations that are not well-served by other forms of intercity transportation.

Section 207 also provides that the FRA Administrator must collect the necessary data and publish a quarterly report on the performance and service quality of intercity passenger train operations, including Amtrak's cost recovery, ridership, on-time performance and minutes of delay, causes of delay, on-board services, stations, facilities, equipment, and other services.

In connection with the Congressional mandate, FRA's Metrics and Minimum Standards for Intercity Passenger Rail Service final rule sets forth a number of metrics that must be collected. 85 FR 72971. On November 23, 2020, FRA published a request for emergency processing of a collection of information because FRA could not reasonably comply with normal clearance procedures to timely collect ridership data metrics and certified schedule metrics as required by § 273.5(b) and § 273.5(c). 85 FR 74783. This ICR request covers all metrics set forth in the final rule, including those covered by the emergency clearance.

Type of Request: Revision to a currently approved information collection.

Affected Public: Amtrak.

Form(s): N/A.

Respondent Universe: ¹ 1 (Amtrak).

¹ As noted in the table, the respondent universe for the required reporting in 49 CFR 273.5(c)(2) is 24 railroads.

Frequency of Submission: Varied.

Reporting Burden: ²

² This table reflects the estimates for the first year which include one-time start up burdens. The annual response, burden and total cost equivalent estimates are expected to decrease after the first year of this 3-year ICR period.

CFR section | Respondent universe | Total annual responses | Average time per responses | Total annual burden hours | Total annual burden hours notes | Total cost equivalent ³
273.5(a)—Customer on-time performance | 1 railroad | 4 | 1 | 4 |  | $310
273.5(b)—Ridership data | 1 railroad | 12 | 1 | 22 | (One-time 10 hour start-up burden + average response time) | 1,704
273.5(c)—Certified schedule | 1 railroad | 7 | 1 | 27 | (One-time 20 hour start-up burden + average response time in the first year; after first year it is one annual response with an average time per response of 1 hour) | 2,092
273.5(c)(2)—Monthly letter to U.S. Congress and other officials | 24 railroads | 30 | 10 | 300 | (Estimated to only be incurred in the first year) | 50,328
273.5(d)—Train delays | 1 railroad | 4 | 1 | 4 |  | 310
273.5(e)—Train delays per 10,000 train miles | 1 railroad | 4 | 1 | 4 |  | 310
273.5(f)—Station performance | 1 railroad | 4 | 1 | 24 | (One-time 20 hour start-up burden + average response time) | 1,859
273.5(f)—Host running time | 1 railroad | 4 | 1 | 44 | (One-time 40 hour start-up burden + average response time) | 3,409
273.7(a)—Customer satisfaction | 1 railroad | 4 | 1 | 4 |  | 310
273.7(b)—Amtrak personnel | 1 railroad | 4 | 1 | 4 |  | 310
273.7(c)—Information given | 1 railroad | 4 | 1 | 4 |  | 310
273.7(d)—On-board comfort | 1 railroad | 4 | 1 | 4 |  | 310
273.7(e)—On-board cleanliness | 1 railroad | 4 | 1 | 4 |  | 310
273.7(f)—On-board food service | 1 railroad | 4 | 1 | 4 |  | 310
273.9(a)—Cost recovery | 1 railroad | 4 | 1 | 4 |  | 310
273.9(b)—Avoidable operating costs covered by passenger revenue | 1 railroad | 4 | 1 | 4 |  | 310
273.9(c)—Fully allocated core operating costs covered by passenger revenue | 1 railroad | 4 | 1 | 4 |  | 310
273.9(d)—Average ridership | 1 railroad | 4 | 1 | 4 |  | 310
273.9(e)—Total ridership | 1 railroad | 4 | 1 | 4 |  | 310
273.11(a)—Connectivity | 1 railroad | 1 | 1 | 1 |  | 77
273.11(b)—Missed connections | 1 railroad | 1 | 1 | 11 | (One-time 10 hour start-up burden + average response time) | 852
273.11(c)—Community access | 1 railroad | 1 | 1 | 11 | (One-time 10 hour start-up burden + average response time) | 852
273.11(d)—Service availability | 1 railroad | 1 | 1 | 11 | (One-time 10 hour start-up burden + average response time) | 852
Total |  | 117 | 15 | 507 |  | 66,365.00

Total Estimated Annual Responses: 117.

³ The dollar equivalent cost is derived from the Surface Transportation Board's Full Year Wage A&B data series using the appropriate employee group hourly wage rate that includes a 75-percent overhead charge.

Total Estimated Annual Burden: 507 hours.

Total Estimated Annual Burden Hour Dollar Cost Equivalent: $66,365.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-27155 Filed 12-9-20; 8:45 am]

BILLING CODE 4910-06-P